DEPARTMENT OF ENERGY

Federal Energy Regulatory Commission

[Docket No. RM16-17-000]

Data Collection for Analytics and Surveillance and Market-Based Rate Purposes; Notice of Technical Workshop

On January 22, 2020, the Federal Energy Regulatory Commission (Commission) issued a notice that Commission staff will hold a technical workshop on the relational database being built in accordance with Order No. 860 (MBR Database).¹ The meeting will take place on February 27, 2020, from 9:00 a.m. to 2:30 p.m.² (EST) in the Commission Meeting Room, at 888 First Street NE, Washington, DC 20426. All interested persons are invited to attend. For those unable to attend in person, access to the meeting will be available via webcast.

¹ Data Collection for Analytics and Surveillance and Market-Based Rate Purposes, Order No. 860, 168 FERC 61,039 (2019).

² Please note that the technical workshop was originally scheduled to end at 12:30 p.m.

Commission staff is hereby supplementing the January 22, 2020 notice with the agenda for discussion. During the meeting Commission staff will provide an overview of the MBR Database, discuss how the MBR Database will fit into the market-based rate program; and answer questions presented live or via email to mbrdatabase@ferc.gov.

Please note that matters pending before the Commission and subject to ex parte limitations cannot be discussed at this meeting. An agenda of the meeting is attached.

Due to the nature of the discussion, those interested in participating are encouraged to attend in person. All interested persons (whether attending in person or via webcast) are asked to register at https://www.ferc.gov/whats-new/registration/02-27-20-form.asp. There is no registration fee. Anyone with internet access can listen to the meeting by navigating to www.ferc.gov' s Calendar of Events, locating the MBR Data Technical Workshop, and clicking on the link to the webcast. The webcast will allow persons to listen to the technical conference and email questions during the meeting to mbrdatabase@ferc.gov.

Commission conferences are accessible under section 508 of the Rehabilitation Act of 1973. For accessibility accommodations, please send an email to accessibility@ferc.gov, call toll free 1-866-208-3372 (voice) or 202-502-8659 (TTY), or send a fax to 202-208-2106 with the required accommodations.

For more information about the technical workshop, please contact Ryan Stertz at 202-502-6473, or send an email to mbrdatabase@ferc.gov. For logistics, contact Sarah McKinley at 202-502-8368 or sarah.mckinley@ferc.gov.

Dated: February 14, 2020.
Kimberly D. Bose,
Secretary.

Agenda

MBR Database Technical Workshop, Commission Meeting Room, February 27, 2020

9:00-9:10 a.m. Welcome and Introductions

9:10-9:35 a.m. Purpose of Database

9:35-10:15 a.m. Overview of MBR Portal and Features

10:15-11:15 a.m. Data Dictionary Walk-Through

11:15-11:45 a.m. Making submissions into the MBR database

11:45-12:00 p.m. Market-Based Rate Filing Process

12:00-12:30 p.m. Break

12:30-2:30 p.m. Question and Answer session

[FR Doc. 2020-03794 Filed 2-25-20; 8:45 am]

BILLING CODE 6717-01-P